DEPARTMENT OF JUSTICE

Notice of Lodging Proposed Consent Decree

In accordance with Departmental Policy, 28 CFR 50.7, notice is hereby given that a proposed Consent Decree in United States v. Bay-Houston Towing Co., Civil Action No. 98-CV-73252 (E.D. Mich.), was lodged with the United States District Court for the Eastern District of Michigan on June 22, 2006.

This proposed Consent Decree concerns a complaint filed by the United States against Bay-Houston Towing Co. (“Bay-Houston”), pursuant to sections 301(a), 309(b), 309(d), and 404 of the Clean Water Act (“CWA”), 33 U.S.C. 1319(b), 1319(d), and 1344, to obtain injunctive relief from and impose civil penalties against the Defendant for violating the Clean Water Act by discharging pollutants without a permit into waters of the United States, at a location known as the “Minden Bog,” in Sanilac County, Michigan, and for failing to comply with an administrative compliance order issued to Bay-Houston by the United States Environmental Protection Agency. The proposed Consent Decree resolves these allegations by permanently enjoining Bay-Houston from discharging pollutants at the Minden Bog except in accordance with CWA section 404 permit recently tendered to Bay-Houston by the United States Army Corps of Engineers (“Corps”). The permit also requires Bay-Houston, inter alia, to restore the majority of the bog affected by peat mining; to immediately donate 1,182 acres of presently undisturbed peatlands to the Michigan Department of Natural Resources (“MDNR”); and to donate remaining peatlands (approximately 1,641 acres) to the MDNR once peat mining is complete.

The Department of Justice will accept written comments relating to this proposed Consent Decree for thirty (30) days from the date of publication of this Notice. Please address comments to Joshua M. Levin, Senior Attorney, U.S. Department of Justice, Environment and Natural Resources Division, Environmental Defense Section, P.O. Box 23986, Washington, DC 20026-3986, and refer to United States v. Bay-Houston Towing Co., DJ #95-5-1-1-4519.

The proposed Consent Decree may be examined at the Clerk's Office, United States District Court for the Eastern District of Michigan, at the following address: 5th Floor, Theodore Levin United States Courthouse, 231 West Lafayette Boulevard, Detroit, MI 48226. In addition, the proposed Consent Decree may be viewed at http://www.usdoj.gov/enrd/open.html.

Scott A. Schachter,
Assistant Chief, Environmental Defense Section, Environment and Natural Resources Division.

[FR Doc. 06-5764 Filed 6-27-06; 8:45 am]

BILLING CODE 4410-15-M